DEPARTMENT OF EDUCATION

President's Advisory Commission on Asian Americans and Pacific Islanders

AGENCY: President's Advisory Commission on Asian Americans and Pacific Islanders; U.S. Department of Education.

ACTION: Notice of an open meeting.

SUMMARY: This notice sets forth the schedule and agenda of the meeting of the President's Advisory Commission on Asian Americans and Pacific Islanders (Commission). The notice also describes the functions of the Commission. Notice of the meeting is required by section 10(a)(2) of the Federal Advisory Committee Act and is intended to notify the public of its opportunity to attend.

DATES: May 7 and May 8, 2014.

Times: May 7, 2014 from 8:30 a.m.-5:15 p.m. ET; May 8, 2014 from 12:00 p.m.-3:30 p.m. ET.

ADDRESSES: The Melrose Georgetown Hotel, 2430 Pennsylvania Ave. NW., Washington, DC 20037, Phone Number: 202-955-6400.

FOR FURTHER INFORMATION CONTACT: Bessie Chan, White House Initiative on Asian Americans and Pacific Islanders, Potomac Center Plaza, 550 12th Street SW., Washington, DC 20202; telephone: 202-245-6418, fax: 202-245-7166.

SUPPLEMENTARY INFORMATION: The President's Advisory Commission on Asian Americans and Pacific Islanders is established under Executive Order 13515, dated October 14, 2009 and subsequently continued and amended by Executive Order 13585. The Commission is governed by the provisions of the Federal Advisory Committee Act (FACA), (Pub. L 92-463; as amended, 5 U.S.C.A., Appendix 2) which sets forth standards for the formation and use of advisory committees. According to Executive Order 13515, the Commission shall provide advice to the President, through the Secretary of Education and a senior official to be designated by the President, on: (i) the development, monitoring, and coordination of executive branch efforts to improve the quality of life of Asian Americans and Pacific Islanders (AAPIs) through increased participation in Federal programs in which such persons may be underserved; (ii) the compilation of research and data related to AAPI populations and subpopulations; (iii) the development, monitoring, and coordination of Federal efforts to improve the economic and community development of AAPI businesses; and (iv) strategies to increase public and private-sector collaboration, and community involvement in improving the health, education, environment, and well-being of AAPIs.

Agenda

The purpose of this meeting is to discuss current and future endeavors of the White House Initiative on Asian Americans and Pacific Islanders through strategic planning to help facilitate and focus its work; review the work of the White House Initiative on Asian Americans and Pacific Islanders; and determine key strategies to help meet the Commission's charge as outlined in Executive Order 13515.

Additional Information

Members of the public who would like to attend the meetings on May 7, 2014 and May 8, 2014, should R.S.V.P. to Bessie Chan via email at Bessie.Chan@ed.gov no later than May 2, 2014 at 3:00 p.m. EDT.

Individuals who will need accommodations for a disability in order to attend the meetings (e.g., interpreting services, assistive listening devices, or material in alternative format) should notify Bessie Chan at 202-245-6418, no later than April 23, 2014. We will attempt to meet requests for accommodations after this date, but cannot guarantee their availability. The meeting site is accessible to individuals with disabilities.

Due to time constraints, there will not be a public comment period at these meetings. However, individuals wishing to provide comments about the White House Initiative on Asian Americans and Pacific Islanders or the Commission may contact Bessie Chan via email at Bessie.Chan@ed.gov. Please include in the subject line the wording, “Public Comment.”

Records are kept of all Commission proceedings and are available for public inspection at the office of the White House Initiative on Asian Americans and Pacific Islanders, U.S. Department of Education, Potomac Center Plaza, 550 12th Street SW., Washington, DC 20202, Monday-Friday during the hours of 8:30 a.m. to 5:00 p.m.

Electronic Access to this Document: You may view this document, as well as all other documents of this Department published in the Federal Register, in text or Adobe Portable Document Format (PDF) on the internet at the following site: www.ed.gov/news/fedregister/index.html. To use PDF you must have Adobe Acrobat Reader, which is available free at this site. If you have questions about using PDF, call the U.S. Government Printing Office (GPO), toll free at 1-866-512-1800; or in the Washington, DC area at 202-512-1800.

Dated: April 16, 2014.
Jamienne S. Studley,
Acting Under Secretary, U.S. Department of Education.

[FR Doc. 2014-09024 Filed 4-18-14; 8:45 am]

BILLING CODE 4000-01-P